INTERNATIONAL TRADE COMMISSION

[Investigation Nos. 701-TA-540, 542-544 and 731-TA-1283, 1285, 1287, and 1289-1290 (Final)]

Cold-Rolled Steel Flat Products From Brazil, India, Korea, Russia, and the United Kingdom; Supplemental Schedule for the Subject Investigations

AGENCY: United States International Trade Commission.

ACTION: Notice.

DATES: August 3, 2016.

FOR FURTHER INFORMATION CONTACT: Nathanael N. Comly (202) 205-3174), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

SUPPLEMENTARY INFORMATION: Effective March 7, 2016, the Commission established a schedule for the conduct of the final phase of the subject investigations.¹ Subsequently, the Department of Commerce extended the date for its final determinations in the investigations concerning Brazil, India, Korea, Russia, and the United Kingdom to no later than 135 days after the publication of the preliminary determinations.² The Department of Commerce's final determinations were published on July 29, 2016.³ The Commission, therefore, is issuing a supplemental schedule for these investigations.

¹ 81 FR 15559, March 23, 2016.

² 81 FR 11754, March 7, 2016 (Brazil); 81 FR 11741, March 7, 2016 (India); 81 FR 11757, March 7, 2016 (Korea); 81 FR 12072, March 8, 2016 (Russia); and 81 FR 11744, March 7, 2016 (United Kingdom).

³ 81 FR 49946 (Brazil antidumping duty), 81 FR 49940 (Brazil countervailing duty), 81 FR 49938 (India antidumping duty), 81 FR 49932 (India countervailing duty), 81 FR 49953 (Korea antidumping duty), 81 FR 49943 (Korea countervailing duty), 81 FR 49950 (Russia antidumping duty), 81 FR 49935 (Russia countervailing duty), and 81 FR 49929 (UK antidumping duty).

The Commission's supplemental schedule is as follows: The deadline for filing party comments on Commerce's final determinations is August 9, 2016; the staff report in the final phase of these investigations will be placed in the nonpublic record on August 23, 2016; and a public version will be issued thereafter.

Supplemental party comments may address only Commerce's final determinations regarding imports from Brazil, India, Korea, Russia, and the United Kingdom. These supplemental final comments may not contain new factual information and may not exceed five (5) pages in length.

For further information concerning these investigations see the Commission's notice cited above and the Commission's Rules of Practice and Procedure, part 201, subparts A and B (19 CFR part 201), and part 207, subparts A and C (19 CFR part 207).

Authority: These investigations are being conducted under authority of title VII of the Tariff Act of 1930; this notice is published pursuant to section 207.21 of the Commission's rules.

By order of the Commission.
Issued: August 3, 2016.
Lisa R. Barton,
Secretary to the Commission.

[FR Doc. 2016-18808 Filed 8-8-16; 8:45 am]

BILLING CODE 7020-02-P